DEPARTMENT OF DEFENSE

Office of the Secretary

[Transmittal No. 23-81]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-81, Policy Justification, and Sensitivity of Technology.

Dated: November 18, 2024.
Stephanie J. Bost,
Alternate OSD Federal Register Liaison Officer, Department of Defense.

BILLING CODE 6001-FR-P

BILLING CODE 6001-FR-C

Transmittal No. 23-81

Notice of Proposed Issuance of Letter of Offer Pursuant to Section 36(b)(1) of the Arms Export Control Act, as amended

(i) Prospective Purchaser: Government of the Republic of Korea

(ii) Total Estimated Value:

Major Defense Equipment * | $209 million
Other | $ 62 million
Total | $271 million

(iii) Description and Quantity or Quantities of Articles or Services under Consideration for Purchase:

Major Defense Equipment (MDE):

Thirty-nine (39) AIM-120C-8 Advanced Medium Range Air-to-Air Missiles (AMRAAM)

Two (2) AIM-120C-8 AMRAAM Guidance Sections

Eighty-eight (88) KMU-556 Tail Kits for the GBU-31v1 Joint Direct-Attack Munition (JDAM)

Eighty-six (86) Mk-84 General Purpose (GP) 2000-lb Bombs for the GBU-31v1 JDAM

Seventy (70) KMU-557 Tail Kits for the GBU-31v3 JDAM

Seventy (70) BLU-109C/B 2000-lb Bombs for the GBU-31v3 JDAM

Seventy-eight (78) KMU-572 Tail Kits for the GBU-54 Laser JDAM (LJDAM)

Two hundred sixty-nine (269) MAU-169 Computer Control Groups/Guidance Sections for the GBU-12 Paveway II

Two hundred sixty-nine (269) MXU-650 Air Foil Groups for the GBU-12 Paveway II

Three hundred forty-two (342) Mk-82 500-lb GP Bombs for the GBU-12 Paveway II or GBU-54 LJDAM

Twelve (12) Mk-82 Inert Bombs

Thirty-five (35) GBU-39 Small Diameter Bomb-Increment 1 (SDB-I) All-Up-Rounds (AUR) with Containers

One hundred eighteen (118) GBU-53 Small Diameter Bomb-Increment 2 (SDB-II) AURs

Non-MDE:

Also included are AIM-120 control section spares and containers; DSU-38 Laser Illuminated Target Detectors; SDB-I Tactical Training Rounds and carriage systems; SDB-II Practical Explosive Ordnance Disposal Trainers (PEST) and Weapon Load Crew Trainer (WLCT) units; FMU-139 fuzes; Common Munitions Built-in-Test (BIT)/Reprogramming Equipment (CMBRE); ADU-891 adapter group computer test sets; Mk-84 practice bombs and other training bombs/components; munitions support and support equipment including propellant and explosive charges; classified software delivery and support; spare parts, consumables, and accessories, and repair and return support; major modifications, maintenance, and maintenance support; transportation and airlift support; classified/unclassified publications and technical documentation; personnel training and training equipment; contractor logistics support (CLS); studies and surveys; United States (U.S.) Government and contractor engineering, technical and logistics support services; and other related elements of logistical and program support.

(iv) Military Department: Air Force (KS-D-YBB)

(v) Prior Related Cases, if any: KS-D-YAJ

(vi) Sales Commission, Fee, etc., Paid, Offered, or Agreed to be Paid: None known at this time

(vii) Sensitivity of Technology Contained in the Defense Article or Defense Services Proposed to be Sold: See Attached Annex

(viii) Date Report Delivered to Congress: December 1, 2023

* As defined in Section 47(6) of the Arms Export Control Act.

POLICY JUSTIFICATION

Republic of Korea (ROK)—F-35 Munitions

The Government of the Republic of Korea has requested to buy thirty-nine (39) AIM-120C-8 Advanced Medium Range Air-to-Air Missiles (AMRAAM); two (2) AIM-120C-8 AMRAAM Guidance Sections; eighty-eight (88) KMU-556 Tail Kits for the GBU-31v1 Joint Direct-Attack Munition (JDAM); eighty-six (86) Mk-84 General Purpose (GP) 2000-lb bombs for the GBU-31v1 JDAM; seventy (70) KMU-557 Tail Kits for the GBU-31v3 JDAM; seventy (70) BLU-109C/B 2000-lb bombs for the GBU-31v3 JDAM; seventy-eight (78) KMU-572 Tail Kits for the GBU-54 Laser JDAM (LJDAM); two hundred sixty-nine (269) MAU-169 Computer Control Groups/Guidance Sections for the GBU-12 Paveway II; two hundred sixty-nine (269) MXU-650 Air Foil Groups for the GBU-12 Paveway II; three hundred forty-two (342) Mk-82 500-lb GP bombs for the GBU-12 Paveway II or GBU-54 LJDAM; twelve (12) Mk-82 inert bombs; thirty-five (35) GBU-39 Small Diameter Bomb-Increment 1 (SDB-I) All-Up-Rounds (AUR) with containers; and one hundred eighteen (118) GBU-53 Small Diameter Bomb-Increment 2 (SDB-II) AURs. Also included are AIM-120 control section spares and containers; DSU-38 Laser Illuminated Target Detectors; SDB-I Tactical Training Rounds and carriage systems; SDB-II Practical Explosive Ordnance Disposal Trainers (PEST) and Weapon Load Crew Trainer (WLCT) units; FMU-139 fuzes; Common Munitions Built-in-Test (BIT)/Reprogramming Equipment (CMBRE); ADU-891 adapter group computer test sets; Mk-84 practice bombs and other training bombs/components; munitions support and support equipment including propellant and explosive charges; classified software delivery and support; spare parts, consumables, and accessories, and repair and return support; major modifications, maintenance, and maintenance support; transportation and airlift support; classified/unclassified publications and technical documentation; personnel training and training equipment; contractor logistics support (CLS); studies and surveys; U.S. Government and contractor engineering, technical and logistics support services; and other related elements of logistical and program support. The estimated total cost is $271 million.

This proposed sale will support the foreign policy goals and national security objectives of the U.S. by improving the security of a major ally that is a force for political stability and economic progress in the Indo-Pacific region.

The proposed sale will improve the Republic of Korea's capability to meet current and future threats by providing its fighter fleet with a range of air-to-air and air-to-ground munitions to deter aggression in the region and ensure interoperability with U.S. forces. Korea will have no difficulty absorbing these articles and services into its armed forces.

The proposed sale of this equipment and support will not alter the basic military balance in the region.

The principal contractors will be Lockheed Martin Corporation, Ocala, FL; Raytheon Missiles and Defense, Tucson, AZ; and the Boeing Company, Huntsville, AL. The purchaser typically requests offsets. Any offset agreement will be defined in negotiations between the purchaser and the contractor.

Implementation of this proposed sale will not require the assignment of any additional U.S. Government or contractor representatives to the Republic of Korea.

There will be no adverse impact on U.S. defense readiness as a result of this proposed sale.

Transmittal No. 23-81

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air-launched, aerial intercept, guided missile featuring digital technology and micro-miniature, solid-state electronics. AMRAAM capabilities include look-down/shoot-down, multiple launches against multiple targets, resistance to electronic countermeasures, and interception of high- and low-flying and maneuvering targets. This potential sale will include AMRAAM guidance and control section spares and containers.

2. Joint Direct-Attack Munitions (JDAM) consist of a bomb body paired with a warhead-specific tail kit containing an Inertial Navigation System (INS)/Global Positioning System (GPS) guidance capability that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (i.e., FLIR, Radar, etc.) during captive carry, or from a third-party source via manual or automated aircrew cockpit entry.

a. The GBU-31v1 is a 2,000-pound JDAM, consisting of a KMU-556 tail kit and BLU-117 or Mk-84 bomb body.

b. The GBU-31v3 is a 2,000-pound JDAM, consisting of a KMU-557 tail kit and BLU-109 bomb body.

c. The GBU-54 Laser Joint Direct Attack Munition (LJDAM) is a 500-pound JDAM which incorporates all the capabilities of the JDAM guidance tail kit and adds a precision laser guidance set. The LJDAM gives the weapon system an optional semi-active laser guidance in addition to the INS/GPS guidance. This provides the optional capability to strike moving targets. The GBU-54 consists of a DSU-38 laser guidance set and bomb body with appropriate KMU-5XX tail kit.

3. The Paveway II (PWII) is a maneuverable, free-fall Laser Guided Bomb (LGB) that guides to laser energy reflected off the target. The LGB is delivered like a normal general purpose (GP) warhead, but the semi-active laser guidance corrects many of the normal errors inherent in any delivery system. Laser designation for the LGB can be provided by a variety of laser target markers or designators. The PWII consists of a non-warhead-specific MAU-209 or MAU-169 Computer Control Group (CCG) and a warhead-specific Air Foil Group (AFG) that attaches to the nose and tail of the GP bomb body.

a. The GBU-12 is a 500-pound GP bomb body fitted with the MAU-169 Computer Control Group and MXU-650 Air Foil Group to guide to its laser designated target.

b. The inert GBU-12 uses a BDU-50 inert bomb body, MAU-169 Computer Control Group and MXU-650 Air Foil Group for training and integration purposes.

4. The GBU-39 Small Diameter Bomb Increment 1 (SDB-I) All-Up-Round (AUR) is a 250-pound GPS-aided inertial navigation system, small autonomous, day or night, adverse weather, conventional, air-to-ground precision glide weapon able to strike fixed and stationary re-locatable non-hardened targets from standoff ranges. It is intended to provide aircraft with an ability to carry a high number of bombs. Aircraft are able to carry four SDBs in place of one 2,000-pound bomb.

(a) The GBU-39/B, Tactical Training Round (TTR), Small Diameter Bomb (Inert Fuze) is functionally identical to a live tactical weapon except that the live warhead is replaced with an inert fill.

5. The GBU-53 Small Diameter Bomb-Increment II (SDB-II) All-Up-Round (AUR) is a 250-pound class precision-guided, semiautonomous, conventional, air-to-ground munition used to defeat targets through adverse weather. The SDB-II has deployable wings and fins and uses Global Positioning System/Inertial Navigation System (GPS/INS) guidance, network-enabled datalink (Link-16 and UHF), and a multi-mode seeker (millimeter wave radar, imaging infrared, semi-active laser) to autonomously search, acquire, track, and defeat a variety of moving or stationary targets, at standoff range in a variety of attack modes. The SDB-II employs a multi-effects warhead (blast, fragmentation, and shaped-charge) for maximum lethality against armored and soft targets. The SDB-II weapon system consists of the tactical AUR weapon, a 4-place common carriage system, and mission planning system munitions application program (MAP).

a. The SDB-II Practical Explosive Ordnance Disposal Trainer (PEST) is an Explosive Ordnance Disposal (EOD) training unit with sections and internal subassemblies which are identical to, or correlate to, the external hardware, sections, and internal subassemblies of the tactical AUR. The PEST does not contain energetics, a live fuze, any sensitive components, or hazardous material. It is not flight certified.

b. The SDB-II Weapon Load Crew Trainer (WLCT) is a mass mockup of the tactical AUR used for load crew and maintenance training. It does not contain energetics, a live fuze, any sensitive components, or hazardous material. It is not flight certified.

6. The FMU-139 Joint Programmable Fuze (JPF) is a multi-delay, multi-arm and proximity sensor compatible with general purpose blast, frag and hardened-target penetrator weapons. The JPF settings are cockpit selectable in flight when used with numerous precision-guided weapons.

7. Common Munitions Built-In-Test (BIT)/Reprogramming Equipment (CMBRE) is support equipment used to interface with weapon systems to initiate and report BIT results, and upload/download flight software. CMBRE supports multiple munitions platforms with a range of applications that perform preflight checks, periodic maintenance checks, loading of Operational Flight Program (OFP) data, loading of munitions mission planning data, loading of Global Positioning System (GPS) cryptographic keys, and declassification of munitions memory.

8. The ADU-891 Adapter Group Test Set provides the physical and electrical interface between the Common Munitions Built-in-Test Reprogramming Equipment (CMBRE) and the missile.

9. The highest level of classification of defense articles, components, and services included in this potential sale is SECRET.

10. If a technologically advanced adversary were to obtain knowledge of the specific hardware and software elements, the information could be used to develop countermeasures that might reduce weapon system effectiveness or be used in the development of a system with similar or advanced capabilities.

11. A determination has been made that the Republic of Korea can provide substantially the same degree of protection for the sensitive technology being released as the U.S. Government. This sale is necessary in furtherance of the U.S. foreign policy and national security objectives outlined in the Policy Justification.

12. All defense articles and services listed in this transmittal have been authorized for release and export to the Republic of Korea.

[FR Doc. 2024-27298 Filed 11-20-24; 8:45 am]

BILLING CODE 6001-FR-P